ENVIRONMENTAL PROTECTION AGENCY

40 CFR Part 52

[EPA-R08-OAR-2014-0761; FRL-9918-87-Region-8]

Partial Approval and Partial Disapproval and Promulgation of Air Quality Implementation Plans; Wyoming; Revisions to Wyoming Air Quality Standards and Regulations; Nonattainment Permitting Requirements and Chapter 3, General Emission Standards

AGENCY: Environmental Protection Agency.

ACTION: Proposed rule.

SUMMARY: EPA is proposing to disapprove a portion of State Implementation Plan (SIP) revisions submitted by the State of Wyoming on May 10, 2011. This submittal revises the Wyoming Air Quality Standards and Regulations (WAQSR) that pertain to the issuance of Wyoming air quality permits for major sources in nonattainment areas. Also in this action, EPA is proposing to approve SIP revisions submitted by the State of Wyoming on February 13, 2013, and on February 10, 2014. These submittals revise the WAQSR with respect to sulfur dioxide (SO2) limits and dates of incorporation by reference (IBR). This action is being taken under section 110 of the Clean Air Act (CAA).

DATES: Comments must be received on or before December 4, 2014.

ADDRESSES: Submit your comments, identified by Docket ID No. EPA-R08-OAR-2014-0761, by one of the following methods:

• www.regulations.gov. Follow the on-line instructions for submitting comments.

• Email: leone.kevin@epa.gov.

• Fax: (303) 312-6064 (please alert the individual listed in the FOR FURTHER INFORMATION CONTACT if you are faxing comments).

• Mail: Carl Daly, Director, Air Program, Environmental Protection Agency (EPA), Region 8, Mailcode 8P-AR, 1595 Wynkoop Street, Denver, Colorado 80202-1129.

• Hand Delivery: Carl Daly, Director, Air Program, Environmental Protection Agency (EPA), Region 8, Mailcode 8P-AR, 1595 Wynkoop Street, Denver, Colorado 80202-1129. Such deliveries are only accepted Monday through Friday, 8:00 a.m. to 4:30 p.m., excluding federal holidays. Special arrangements should be made for deliveries of boxed information.

Instructions: Direct your comments to Docket ID No. EPA-R08-OAR-2014-0761. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA, without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to section I. General Information of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly-available docket materials are available either electronically in www.regulations.gov or in hard copy at the Air Program, Environmental Protection Agency (EPA), Region 8, 1595 Wynkoop Street, Denver, Colorado 80202-1129. EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Kevin Leone, Air Program, Mailcode 8P-AR, Environmental Protection Agency, Region 8, 1595 Wynkoop Street, Denver, Colorado 80202-1129, (303) 312-6227, or leone.kevin@epa.gov.

SUPPLEMENTARY INFORMATION:

Table of Contents

I. General Information

II. What is being addressed in this document?

III. What is the state process to submit these materials to EPA?

IV. What are the changes that EPA is proposing to approve?

V. What are the changes that EPA is proposing to disapprove?

VI. What action is EPA proposing today?

VII. Statutory and Executive Orders Review

Definitions

For the purpose of this document, we are giving meaning to certain words or initials as follows:

(i) The words or initials Act or CAA mean or refer to the Clean Air Act, unless the context indicates otherwise.

(ii) The initials CFR mean or refer to Code of Federal Regulations.

(iii) The words EPA, we, us or our mean or refer to the United States Environmental Protection Agency.

(iv) The initials IBR mean or refer to incorporation by reference.

(v) The initials NAAQS mean or refer to National Ambient Air Quality Standards.

(vi) The initials NSPS mean or refer to New Source Performance Standards.

(vii) The initials NSR mean or refer to New Source Review.

(viii) The initials PM10 mean or refer to particulate matter with an aerodynamic diameter of less than or equal to 10 micrometers (coarse particulate matter).

(ix) The initials PSD mean or refer to Prevention of Significant Deterioration.

(x) The initials SIP mean or refer to State Implementation Plan.

(xi) The initials SO2 mean or refer to sulfur dioxide.

(xii) The words State or Wyoming mean the State of Wyoming, unless the context indicates otherwise.

(xiii) The initials WAQSR mean or refer to the Wyoming Air Quality Standards and Regulations.

(xiv) The initials WEQC mean or refer to the Wyoming Environmental Quality Council.

I. General Information

A. What should I consider as I prepare my comments for EPA?

1. Submitting CBI. Do not submit this information to EPA through www.regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

II. What is being addressed in this document?

May 10, 2011 Submittal

In this proposed rulemaking, we are only taking action on the addition of Chapter 6, Section 13 to the WAQSR. This new section incorporates by reference 40 CFR section 51.165 in its entirety, with the exception of paragraphs (a) and (a)(1), into Wyoming's permit requirements. The rest of the May 10, 2011 submittal was acted on previously. On July 25, 2011, 76 FR 44265, we approved revisions in the May 10, 2011 submittal to the State's prevention of signification deterioration (PSD) program (Chapter 6, Section 4). Also in the May 10, 2011 submittal, Wyoming revised Chapter 6, Section 14 to update the IBR of the CFR to July 1, 2008. This revision was superseded by the State's May 24, 2012 submittal, which updates the IBR of the CFR in Chapter 6, Section 14 to July 1, 2010. EPA approved this superseding revision on December 6, 2013, 78 FR 73445.

February 13, 2013, and February 10, 2014 Submittals

On February 13, 2013, and on February 10, 2014, the State of Wyoming submitted to EPA formal revision packages containing portions of rulemakings R-20 and R-22(b), respectively, as revisions to Wyoming's SIP. These revisions amend the WAQSR. In particular, Wyoming revised Chapter 3, General Emissions Standards, Section 4, Emission standards for sulfur oxides and Section 9, Incorporation by reference in R-20, and then again revised Section 9, Incorporation by reference in R-22(b).

The Wyoming Environmental Quality Council (WEQC) made these changes by amending WASQR Chapter 3, including Sections 4 and 9, via rulemaking R-20 on October 5, 2012. They then amended other sections of Chapter 3, including the update to Section 9 included in this notice, on September 12, 2013 via rulemaking R-22(b). Chapter 3, Section 4, “Emission standards for sulfur oxides,” was revised in that its only two subsections, 4(a) and 4(f), were removed and Section 4 was relabeled as “Reserved” for future use. Section 9 of Chapter 3, “Incorporation by reference,” was added to adopt by reference the CFR to July 1, 2012.

The SIP revisions in the February 13, 2013 and February 10, 2014 submittals that we are proposing to act on involve the WASQR Chapter 3, “General Emissions Standards,” Section 4, “Emission standards for sulfur oxides,” and Section 9, “Incorporation by reference.” Section 4 covers only sulfur oxide emissions from specific sulfuric acid production processes.

III. What is the state process to submit these materials to EPA?

Section 110(k) of the CAA addresses EPA's actions on submissions of revisions to a SIP. The CAA requires states to observe certain procedural requirements in developing SIP revisions for submittal to EPA. Section 110(a)(2) of the CAA requires that each SIP revision be adopted after reasonable notice and public hearing. This must occur prior to the revision being submitted by a state to EPA.

For the May 10, 2011, submittal, the WEQC held a public hearing on July 8, 2010 to hear proposed revisions to the WAQSR from the Wyoming Department of Environmental Quality, including the addition of Chapter 6, Section 13, Nonattainment permit requirements. After reviewing comments received before and during the hearing, the WEQC approved the proposed revisions on July 8, 2010. The Governor submitted these SIP revisions to EPA on May 10, 2011.

For the February 13, 2013, submittal, the WEQC held a public hearing on October 5, 2012. Several comments were received in support of the rulemaking. For the February 10, 2014, submittal, the WEQC held a public hearing on September 12, 2013. Only one comment with respect to the incorporation by reference date of July 1, 2012 was received. That comment was adequately addressed.

In accordance with the Wyoming Administrative Procedures Act, the revisions were forwarded to the Wyoming Governor's Office where they were approved, and then transmitted to the Wyoming Secretary of State's office.

We have evaluated the Governor's submittal of the submitted revisions and have determined that the State met the requirements for reasonable notice and public hearing under Section 110(a)(2) of the CAA.

IV. What are the changes that EPA is proposing to approve?

EPA is proposing to approve the SIP revisions as submitted by Wyoming on February 13, 2013 and February 10, 2014. These submittals involve the WASQR Chapter 3, “General Emissions Standards,” Section 4, “Emission standards for sulfur oxides,” and Section 9, “Incorporation by reference.” Section 4 covers only sulfur oxide emissions from specific sulfuric acid production processes.

Chapter 3, Section 4, Emission standards for sulfur oxides, established limits on the quantity, rate or concentration of SO2 emissions from sulfuric acid production facilities producing sulfuric acid by the contact process by burning elemental sulfur, alkylation acid, hydrogen sulfide, organic sulfides, mercaptans, or acid sludge. Section 4 is one of the oldest sections in the WAQSR, and was approved into the SIP prior to the 1990 CAA Amendments. The State is removing the section as these older regulations (subparts 4(a) and 4(f)—the only subparts remaining in Section 4) have been superseded by other regulations that are at least as stringent. The superseding regulations are EPA's New Source Performance Standards (NSPS) and New Source Review (NSR) program. The NSPS regulations are located in Title 40 “Protection of the Environment,” Part 60 “Standards of Performance for New Stationary Sources.” Specific NSPS requirements for sulfuric acid plants are found in Subpart H, sections 60.80 through 60.85. Wyoming's EPA approved NSR program is found in the WAQSR at Chapter 6, Section 2 “Permit requirements for construction, modification and operation” and Section 4 “Prevention of significant deterioration.”

The emissions standards in the sections that Wyoming is requesting to remove apply to the same sulfuric acid production units as in the NSPS requirements specifically detailed in 40 CFR part 60, section 60.81(a). Wyoming's emission standards were also numerically the same as those required in NSPS requirements at 40 CFR part 60, section 60.82(a). EPA's NSPS regulations apply to any sulfuric acid production facility (as defined above) that commenced construction or modification after August 17, 1971. Although WAQSR Chapter 3, Section 4 applies statewide (except for Indian country), the only two facilities under jurisdiction of the State of Wyoming are the Lurgi Sulfuric Acid Plant (Unit 9a) and the MEC Sulfuric Acid Plant (Unit 9b), both located at the Simplot Phosphates LLC Rock Springs Fertilizer Complex in the City of Rock Springs, in the southwest corner of Wyoming. The two plants were put into operation in 1986 and 1995, respectively, so are, and have always been, under NSPS regulatory requirements. In addition, the NSR permits for these facilities contain the same limits as the NSPS.

Therefore, Wyoming's removal of the SO2 limit for these facilities will have no adverse effect on ambient air quality, including that of Wyoming's only nonattainment area for particulate matter with an aerodynamic diameter of less than or equal to 10 micrometers (PM10—coarse particulate matter) located more than 200 miles north near Sheridan, Wyoming. All current and future sulfuric acid plant SO2 emitting sources in the State will be regulated under federally enforceable programs that are at least as stringent as the SO2 limit that Wyoming is removing. Thus, removal of the limit will not interfere with the national ambient air quality standards (NAAQS) and will not increase emissions within the PM10 nonattainment area. As a result, sections 110(l) and 193 of the Act are satisfied.

Chapter 3, Section 4 is not to be confused with Chapter 2, Section 4 “Ambient standards for sulfur oxides,” which provides for the NAAQS for sulfur oxides. The only category of sources regulated in Chapter 3, subsection 4(a) covered under the SIP are sulfuric acid production facilities producing sulfuric acid by the contact process by burning elemental sulfur, alkylation acid, hydrogen sulfide, organic sulfides, mercaptans, or acid sludge. The removal of subsection 4(f) from the SIP follows as it involves cross-referencing that is no longer applicable without the rest of the section.

While Section 9 is not currently in the SIP, the State previously submitted a SIP revision dated May 24, 2012 for inclusion of Section 9 into the SIP. The February 10, 2014 submittal is simply an update to the May 24, 2012 revision. Today's notice proposes to add the February 10, 2014 version of Section 9 of Chapter 3 to the SIP, and thus the May 24, 2012 revision will be superseded by today's action. Section 9 merely incorporates by reference certain federal requirements. EPA views this revision as noncontroversial.

EPA has reviewed Wyoming's rule amendments and additions as discussed above. These WAQSR changes and additions are consistent with the CAA and EPA regulations. As a result, EPA is proposing for approval the SIP revisions submitted by the State of Wyoming consisting of the above discussed applicable portions of rulemakings R-20 and R-22(b), submitted to EPA Region 8 on February 13, 2013 and February 10, 2014, respectively.

V. What are the changes that EPA is proposing to disapprove?

EPA is proposing to disapprove the portion of Wyoming's May 10, 2011 submittal that adds a new section to the permitting requirements in WAQSR Chapter 6. The new Chapter 6 Section 13, Nonattainment permit requirements, consists of one sentence: “40 CFR part 51.165 is herein incorporated by reference, in its entirety, with the exception of paragraph (a) and paragraph (a)(1).”

The section of the CFR that the submittal incorporates by reference, 40 CFR 51.165 (Permit requirements), sets out the minimum plan requirements states are to use in developing nonattainment NSR permit programs. Generally speaking, 40 CFR 51.165 consists of a set of definitions for use in state programs, minimum plan requirements for procedures for determining applicability of nonattainment NSR and for the use of offsets, and minimum plan requirements regarding other source obligations, such as recordkeeping.

Specifically, subparagraphs 51.165(a)(1)(i) through (xlvi) enumerate a set of definitions which states must either use or replace with definitions that a state demonstrates are more stringent or at least as stringent in all respects. Subparagraph 51.165(a)(2) sets minimum plan requirements for procedures to determine the applicability of the nonattainment NSR program to new or modified sources. These requirements are prefaced by language such as “each plan shall adopt a preconstruction review program,” “each plan shall use the [following] provisions,” and “the plan shall require.” Subparagraphs 51.165(a)(3), (a)(9), and (a)(11) set minimum plan requirements for the use of offsets by sources subject to nonattainment NSR. Again, these requirements are prefaced by language such as “each plan shall provide” and “the plan shall require.” Similar language prefaces the requirements in subparagraphs (a)(8) and (a)(10) regarding precursors, and subparagraphs (a)(6) and (a)(7) regarding recordkeeping obligations. Finally subparagraph 51.165(a)(4) allows nonattainment NSR programs to treat fugitive emissions in certain ways. This provision is prefaced by the phrase “the plan may provide.”

Subparagraph 51.165(b) sets minimum plan requirements for new major stationary sources and major modifications in attainment and unclassifiable areas that would cause or contribute to violations of the NAAQS. The requirements are prefaced by “the plan shall include” or “the plan shall apply to”; in addition there is an optional component (“Such a program may include”). Finally, subparagraph 51.165(f) sets minimum plan requirements for the use of plantwide applicability limitations. This subparagraph again includes in various places language such as “the plan shall provide” and “the plan shall require.”

EPA proposes to disapprove the portion of the May 10, 2011 submittal ¹ that adds Chapter 6, Section 13, Nonattainment permit requirements, to the Wyoming SIP, based on the following considerations:

¹ As mentioned elsewhere, EPA has already approved the portions of the May 11, 2011 submittal that revise the State's PSD program. EPA has also approved a portion of another submittal that supersedes the update to Section 14, Incorporation by Reference in the May 10, 2011 submittal.

(1) The language prefaced by phrases such as “the plan shall provide” or “the plan shall require” does not create unambiguous and enforceable obligations for sources that would be subject to the nonattainment NSR requirements. Instead, the language creates obligations for states to meet in adopting a nonattainment NSR program. Furthermore, language prefaced by phrases such as “the plan may provide” not only fails to create enforceable obligations for sources; it also creates an ambiguity as to whether or not the nonattainment NSR program in fact contains the optional provisions.

Section 110(a)(2)(C) requires each state plan to include “a program to provide for . . . the regulation of the modification and construction of any stationary source within the areas covered by the plan as necessary to assure that the [NAAQS] are achieved, including a permit program as required in parts C and D of this subchapter.” Part D requires a permit program in section 172(c)(5), which provides that the plan “shall require permits for the construction and operation of new or modified major stationary sources anywhere in the nonattainment area, in accordance with section [173].” Section 173 lays out the requirements for obtaining a permit that must be included in the state's SIP-approved permit program. Because language prefaced by phrases such as “the plan shall provide” or “the plan shall require” does not itself impose requirements on sources, the State's proposed plan revision does not clearly satisfy the requirements of these statutory provisions.² Nor does the SIP revision comply with the requirements of 40 CFR 51.165 as the plan fails to impose the regulatory requirements on sources.

² A 1987 EPA guidance memorandum identifies a similar issue with incorporation by reference of 40 CFR 51.166, which contains the minimum plan requirements for PSD programs. The memorandum recommends that states incorporate by reference 40 CFR 52.21 instead of 40 CFR 51.166, because only 52.21 is “written in a form imposing obligations on permit applicants.” Memorandum from J. Craig Potter, Thomas L. Adams Jr., and Francis S. Blake, “Review of State Implementation Plans and Revisions for Enforceability and Legal Sufficiency” (Sept. 13, 1987).

Also, the failure to create enforceable obligations for sources violates section 110(a)(2)(A) of the Act, which requires that SIPs contain enforceable emissions limitations and other control measures. Under section 110(a)(2) of the Act, the enforceability requirement in 110(a)(2)(A) applies to all plans submitted by a state. In addition, under CAA section 172(c)(7), nonattainment plans—including nonattainment NSR programs required by 172(c)(5)—are required to meet the applicable provisions of section 110(a)(2), including the requirement in section 110(a)(2)(A) for enforceable emission limitations and other control measures.

(2) In certain places 40 CFR 51.165 requires states to adopt procedures that meet certain standards, but do not specify the content of those procedures. For example, 51.165(a)(ii)(F) requires “the plan [to] provide that . . . procedures relating to the permissible location of offsetting emissions shall be followed which are at least as stringent as those set out in 40 CFR part 51 appendix S section IV.D.” The State's submittal, by incorporating this language, leaves those procedures unspecified. This not only calls into question the enforceability of these offset requirements, but also violates section 110(i) of the Act, which (with the exception of certain limited circumstances that do not apply here) prohibits modification of any requirement applying to a stationary source except through the SIP revision process.

Under section 110(l) of the Act, EPA cannot approve a SIP revision that interferes with any applicable requirement of the Act. As explained above, the addition of Chapter 6, Section 13 to the Wyoming SIP would interfere with sections 110(a)(2) and 110(i) of the Act. EPA therefore proposes to disapprove the addition of Chapter 6, Section 13 to the Wyoming SIP.

EPA's proposed disapproval, if finalized, will start the two-year clock under section 110(c)(1) for EPA's obligation to promulgate a federal implementation plan to correct the deficiency, unless the State submits and EPA approves a SIP revision addressing the deficiency. If finalized, the proposed disapproval will also, under section 179(a)(2), start the 18-month clock for sanctions, unless the State submits and EPA approves a SIP revision correcting the deficiency.

VI. What action is EPA proposing today?

As described in Section IV of this notice, EPA is proposing to approve the SIP revisions submitted by Wyoming on February 13, 2013 and February 10, 2014.

As described in Section V of this notice, EPA is proposing to disapprove the portion of the SIP revisions submitted by Wyoming on May 10, 2011 that adds Chapter 6, Section 13 to the Wyoming SIP.

VII. Statutory and Executive Orders Review

Under the CAA, the Administrator is required to approve a SIP submission that complies with the provisions of the Act and applicable federal regulations 42 U.S.C. 7410(k); 40 CFR 52.02(a). Thus, in reviewing SIP submissions, EPA's role is to approve state choices, provided that they meet the criteria of the CAA. Accordingly, this proposed action merely approves state law as meeting federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: October 20, 2014.
Shaun L. McGrath,
Regional Administrator, Region 8.

[FR Doc. 2014-26172 Filed 11-3-14; 8:45 am]

BILLING CODE 6560-50-P